DEPARTMENT OF DEFENSE

Office of the Secretary

Submission for OMB Review; Comment Request

ACTION: Notice.

The Department of Defense has submitted to OMB for clearance, the following proposal for collection of information under the provisions of the Paperwork Reduction Act (44 U.S.C. Chapter 35).

DATES: Consideration will be given to all comments received by December 18, 2003.

Title Form, and OMB Number: Application Procedures for United States Naval Academy; OMB Number 0703-0036.

Type of Request: Reinstatement.

Number of Respondents: 10,000.

Responses Per Respondent: 1.

Annual Responses: 10,000.

Average Burden Per Response: 4 hours.

Annual Burden Hours: 40,000.

Needs and Uses: This collection of information is necessary to determine the eligibility and evaluate overall competitive standing of candidates for appointment to the United States Naval Academy. An analysis of the information collected is made by the Admissions Board during the process in order to gauge the qualifications of individual candidates.

Affected Public: Individuals or Households, Not-For-Profit Institutions.

Frequency: On Occasion.

Respondent's Obligation: Required to Obtain or Retain Benefits.

OMB Desk Officer: Ms. Jacqueline Zeiher.

Written comments and recommendations on the proposed information collection should be sent to Ms. Zeiher at the Office of Management and Budget, Desk Officer for DoD, Room 10236, New Executive Office Building, Washington, DC 20503.

DOD Clearance Officer: Ms. Jacqueline Davis.

Written requests for copies of the information collection proposal should be sent to Ms. Davis, WHS/DIOR, 1215 Jefferson Davis Highway, Suite 1204, Arlington, VA 22202-4302.

Dated: November 7, 2003.
Patricia L. Toppings,
Alternate OSD Federal Register Liaison Officer, Department of Defense.

[FR Doc. 03-28694 Filed 11-17-03; 8:45 am]

BILLING CODE 5001-06-M